DEPARTMENT OF TRANSPORTATION

Federal Aviation Administration

Performance-Based Operations Aviation Rulemaking Committee

AGENCY: Federal Aviation Administration, DOT.

ACTION: Notice of public meeting.

SUMMARY: This document announces a public meeting in which the Federal Aviation Administration (FAA) and members of the Performance-Based Operations Aviation Rulemaking Committee (PARC) will discuss implementing the performance-based National Airspace System. The first day of the meeting will focus on performance-based operations. The second day of the meeting will focus on navigation infrastructure capabilities.

DATES: The public meeting will be held July 25-26, 2006 in Vienna, VA, and will begin at 8:30 a.m. each day. Registration will begin at 7:30 a.m. each day.

ADDRESSES: The public meeting will be held at the Sheraton Premiere Tysons Corner, 8661 Leesburg Pike, Vienna, Virginia 22182, Phone (703) 448-1234, Fax (703) 610-8293

The FAA will post an electronic copy of informational materials for the meeting, including a detailed agenda and information about hotel reservations, at http://www.faa.gov/news/conferences/parc_2006.

FOR FURTHER INFORMATION CONTACT: Cindy Smith, CMP Meeting Services, 3505 Vernon Woods Drive, Summerfield, NC 27358, Phone: 336-644-1888, Fax: 336-644-6205, Mobile: 336-451-0553, e-mail: csmith@cmpmeetings.com.

SUPPLEMENTARY INFORMATION: The public meeting will be held at the Sheraton Premiere Tysons Corner, 8661 Leesburg Pike, Vienna, Virginia 22182, Phone (703) 448-1234, Fax (703) 610-8293.

The purpose of the meeting is to give attendees the opportunity to be briefed on the implementation of performance-based navigation. The FAA Administrator originally chartered the PARC in February 2004, and recently extended the charter for another 2 years.

The general discussion items on the first day include: (1) An overview of the PARC's role and activities; (2) an overview of the updated Roadmap for Performance-Based Navigation, including achievements and what is ahead; (3) a review of enabling operational criteria and standards, including discussion of Advisory Circular (AC) 90-100, U.S. Terminal and En Route Area Navigation (RNAV) Operations and AC 90-101, Approval Guidance for RNP Procedures with SAAAR; (4) PARC activity reports from working groups and action teams; (5) a panel discussion on RNAV, Required Navigation Performance (RNP) Implementation Challenges and Experiences, and Localizer Performance with Vertical Guidance (LPV); and (6) Future avionics and aircraft manufacturer perspectives.

The focus for the second day will be on the provision of navigation services and the Navigation Evolution Roadmap to transition the infrastructure through the year 2025. The general format will consist of short briefings followed by panel discussions. The subjects will include: (1) Current state of the Global Positioning System (GPS), Satellite-Based Augmentation Systems (SBAS), Ground-Based Augmentation Systems (GBAS), overview of the Navigation Evolution Roadmap; (2) future navigation services and impacts on aircraft operations, avionics, and global integration; (3) industry perspectives and discussion on coordination of efforts; and (4) a wrap up of both days and how these efforts are tied together.

Attendance at the Public Meeting

The meeting will be open to all people who have asked in advance to attend the meeting or who register on the day of the meeting (between 7:30 a.m. and 8:30 a.m.), subject to availability of space in the meeting room. To register in advance, you should submit your request to Cindy Smith, CMP Meeting Services, as listed in the section titled FOR FURTHER INFORMATION CONTACT.

Background

The FAA has committed to implementing performance-based airspace operations. Given this commitment, there are significant issues with industry dynamics; new technologies; new aircraft types/capabilities and configurations and current operations; airspace use; airports; infrastructure; economics; and the environment. These complex issues mandate a comprehensive review and possible revision of existing regulatory criteria and guidance materials. Where existing criteria and guidance is inadequate or nonexistent, there will be the requirement to develop and implement new regulatory criteria and the guidance material needed by all stakeholders. The PARC provides a forum for the U.S. aviation community to discuss, prioritize, and resolve issues, provide direction for U.S. flight operations criteria, and produce U.S. consensus positions for global harmonization. The FAA Administrator issued the PARC charter on February 19, 2004 and was recently extended for an additional 2 years.

Public Meeting Procedures

Persons who plan to attend the meeting should be aware of the following procedures set up for this meeting:

1. There will be no admission fee or other charge to attend or to participate in the public meeting. The meeting will be open to all people who have asked in advance to attend the meeting or who register on the day of the meeting (between 7:30 a.m. and 8:30 a.m.), subject to availability of space in the meeting room.

2. Representatives from the FAA and PARC members will conduct the public meeting.

3. Sign and oral interpretation can be made available at the meeting, as well as an assistive listening device, if requested 10 calendar days before the meeting.

Issued in Washington, DC, on May 22, 2006.
James J. Ballough,
Director, Flight Standards Service.

[FR Doc. E6-8293 Filed 5-26-06; 8:45 am]

BILLING CODE 4910-13-P